ENVIRONMENTAL PROTECTION AGENCY

40 CFR Part 52

[CA 265-0363b; FRL-7266-6]

Approval and Promulgation of State Implementation Plans; California State Implementation Plan Revision, Santa Barbara County Air Pollution Control District

AGENCY: Environmental Protection Agency (EPA).

ACTION: Proposed rule.

SUMMARY: EPA is proposing to approve revisions to the California State Implementation Plan (SIP) for the Santa Barbara County Air Pollution Control District (SBCAPCD). The revisions consist of negative declarations for four volatile organic compound source categories. The intended effect of this action is to bring the SBCAPCD portion of the California SIP up to date in accordance with the requirements of the Clean Air Act, as amended in 1990 (CAA or the Act). EPA is proposing the approval of these negative declarations for the California SIP under provisions of the CAA regarding EPA action on SIP submittals, SIPs for national primary and secondary ambient air quality standards, and plan requirements for nonattainment areas. EPA is approving these revisions in accordance with the requirements of the CAA.

DATES: Any comments on this proposal must arrive by September 25, 2002.

ADDRESSES: Mail comments to Andy Steckel, Rulemaking Office Chief (AIR-4), U.S. Environmental Protection Agency, Region IX, 75 Hawthorne Street, San Francisco, CA 94105-3901 You can inspect copies of the submitted SIP revisions and EPA's technical support document (TSD) at our Region IX office during normal business hours. You may also see copies of the submitted SIP revisions at the following locations:

California Air Resources Board, Stationary Source Division, Rule Evaluation Section, 1001 “I” Street, Sacramento, CA 95814.

Santa Barbara County Air Pollution Control District, 26 Castilian Drive, Suite B-23, Goleta, CA 93117-3027.

FOR FURTHER INFORMATION CONTACT: Julie A. Rose, Rulemaking Office, AIR-4, Air Division, U.S. Environmental Protection Agency, Region 9, 75 Hawthorne Street, San Francisco, CA 94105-3901, Telephone: (415) 947-4126. E-mail: Rose.julie@EPA.gov.

SUPPLEMENTARY INFORMATION: The negative declarations being approved for the Santa Barbara County Air Pollution Control District (SBCAPCD) portion of the California SIP are listed in the following Table:

Submitted Negative Declarations
Local agency | Title | Adopted | Submitted
SBCAPCD | Synthetic Organic Chemical Manufacturing Industry (SOCMI) Batch Processing, Reactors, and Distillation | 02-21-02 | 04-09-02
| Wood Furniture Manufacturing Operations | 02-21-02 | 04-09-02

In the final rules section of this Federal Register, the EPA is approving the State's SIP submittal as a direct final rule without prior proposal because the Agency views this as a noncontroversial revision and anticipates no adverse comments.

A detailed rationale for this approval is set forth in the direct final rule. If no adverse comments are received, no further activity is contemplated. If EPA receives adverse comments, the direct final rule will be withdrawn and all public comments received will be addressed in a subsequent final rule based on this proposed rule. The EPA will not institute a second comment period. Any parties interested in commenting should do so at this time.

Authority: 42 U.S.C. 7401 et seq.

Dated: August 6, 2002.
Wayne Nastri,
Regional Administrator, , Region IX.

[FR Doc. 02-21557 Filed 8-23-02; 8:45 am]

BILLING CODE 6560-50-P